DEPARTMENT OF ENERGY

10 CFR Part 431

[Docket No. EERE-2011-BT-STD-0031]

RIN 1904-AC54

Energy Efficiency Program for Commercial and Industrial Equipment: Commercial and Industrial Pumps

AGENCY: Office of Energy Efficiency and Renewable Energy, Department of Energy.

ACTION: Extension of public comment period.

SUMMARY: The comment period for the notice of public meeting and availability of the Framework Document pertaining to the development of energy conservation standards for commercial and industrial pumps published on February 1, 2013, is extended to May 2, 2013.

DATES: The comment period for the notice of public meeting and availability of the Framework Document relating to commercial and industrial pumps is extended to May 2, 2013.

ADDRESSES: Any comments submitted must identify the Framework Document for commercial and industrial pumps and provide docket number EERE-2011-BT-STD-0031 and/or RIN number 1904-AC54. Comments may be submitted using any of the following methods:

• Federal eRulemaking Portal at http://www.regulations.gov. Follow the instructions for submitting comments.

• Email: to Pumps2011STD0031@ee.doe.gov. Include EERE-2011-BT-STD-0031 in the subject line of the message.

• Mail: Ms. Brenda Edwards, U.S. Department of Energy, Building Technologies Program, Mailstop EE-2J, Framework Document for commercial and industrial pumps, EERE-2011-BT-STD-0031, 1000 Independence Avenue SW., Washington, DC 20585- 0121. Phone: (202) 586-2945. Please submit one signed paper original.

• Hand Delivery/Courier: Ms. Brenda Edwards, U.S. Department of Energy, Building Technologies Program, 6th Floor, 950 L'Enfant Plaza SW., Washington, DC 20024. Phone: (202) 586-2945. Please submit one signed paper original.

Docket: For access to the docket to read background documents, or comments received, go to the Federal eRulemaking Portal at http://www.regulations.gov.

FOR FURTHER INFORMATION CONTACT: Mr. Charles Llenza, U.S. Department of Energy, Office of Energy Efficiency and Renewable Energy, Building Technologies Program, EE-2J, 1000 Independence Avenue SW., Washington, DC 20585-0121. Telephone: (202) 586-2192. Email: pumps@ee.doe.gov.

In the office of the General Counsel, contact Ms. Elizabeth Kohl, U.S. Department of Energy, Office of the General Counsel, GC-71, 1000 Independence Avenue SW., Washington, DC 20585-0121. Telephone: (202) 586-9507. Email: Elizabeth.Kohl@hq.doe.gov.

SUPPLEMENTARY INFORMATION: The U.S. Department of Energy (DOE) published a request for information to solicit comments, data and information on, among other things, the energy use and potential means to improve the energy efficiency of commercial and industrial pumps. (76 FR 34192, June 13, 2011). DOE subsequently published a notice of public meeting and availability of the Framework Document in the Federal Register (78 FR 7304, Feb. 1, 2013) to solicit public input and facilitate the process of considering energy conservation standards for commercial and industrial pumps. The notice requested public comment from interested parties regarding specific as well as general questions and provided for the submission of comments by March 18, 2013. Thereafter, the Hydraulic Institute (HI) requested, on behalf of itself and its members, a 30-day extension of the public meeting and an additional 30-day extension of the comment period following the public meeting. HI stated that the additional time is necessary in order to review the 126 page document, gather the requisite information, and respond to the 110 questions DOE presented in the framework document. HI noted that the framework document addresses “innumerable issues and complexities” and that “DOE is requesting well-informed and technical responses.” HI asserts that there is insufficient time before the February 20, 2013 hearing date to gather information and respond.

DOE declines to delay the public meeting. DOE notes that a public meeting on commercial and industrial fans is scheduled for February 21, 2013, the day after the meeting scheduled for pumps. Given the similarities in DOE's approach to and the issues presented by these equipment types, and in consideration of the travel schedules of participants who wish to attend the public meetings in person, DOE is retaining the scheduled February 20, 2013 public meeting date for pumps. However, based on HI's request, DOE believes that extending the comment period to allow additional time for interested parties to submit comments is appropriate. Therefore, DOE is extending the comment period until May 2, 2013 to provide interested parties additional time to prepare and submit comments. Accordingly, DOE will consider any comments received by May 2, 2013 to be timely submitted.

Issued in Washington, DC, on February 12, 2013.
Kathleen B. Hogan,
Deputy Assistant Secretary for Energy Efficiency, Energy Efficiency and Renewable Energy.

[FR Doc. 2013-03996 Filed 2-20-13; 8:45 am]

BILLING CODE 6450-01-P